ENVIRONMENTAL PROTECTION AGENCY

40 CFR Part 271

[EPA-R01-RCRA-2010-0561; FRL-9179-6]

Rhode Island: Final Authorization of State Hazardous Waste Management Program Revisions

AGENCY: Environmental Protection Agency (EPA).

ACTION: Proposed rule.

SUMMARY: The State of Rhode Island has applied to EPA for final authorization of changes to its hazardous waste program under the Resource Conservation and Recovery Act (RCRA). EPA proposes to grant final authorization to Rhode Island. EPA has determined that these changes satisfy all requirements needed to qualify for final authorization, and is authorizing the State's changes through an immediate final action.

DATES: Comments must be received on or before August 25, 2010.

ADDRESSES: Submit your comments, identified by Docket ID No. EPA-R01-RCRA-2010-0561, by one of the following methods:

• http://www.regulations.gov: Follow the on-line instructions for submitting comments.

• E-mail: biscaia.robin@epa.gov.

• Fax: (617) 918-0642, to the attention of Robin Biscaia.

• Mail: Robin Biscaia, RCRA Waste Management Section, Office of Site Remediation and Restoration (OSRR 07-1), EPA New England—Region I, 5 Post Office Square, Suite 100, Boston, MA 02109-3912.

• Hand Delivery or Courier: Deliver your comments to: Robin Biscaia, RCRA Waste Management Section, Office of Site Restoration and Remediation (OSRR 07-1), EPA New England—Region I, 5 Post Office Square, Suite 100, Boston, MA 02109-3912. Such deliveries are only accepted during the Office's normal hours of operation, and special arrangements should be made for deliveries of boxed information.

For further information on how to submit comments, please see today's immediate final rule published in the “Rules and Regulations” section of this Federal Register.

FOR FURTHER INFORMATION CONTACT: Robin Biscaia, RCRA Waste Management Section, Office of Site Remediation and Restoration (OSRR 07-1), EPA New England—Region I, 5 Post Office Square, Suite 100, Boston, MA 02109-3912, telephone number: (617) 918-1642; fax number: (617) 918-0642, e-mail address: biscaia.robin@epa.gov.

SUPPLEMENTARY INFORMATION: In the “Rules and Regulations” section of this Federal Register, EPA is authorizing the changes by an immediate final rule (except with respect to the zinc fertilizer rule). EPA did not make a proposal prior to the immediate final rule because we believe this action is not controversial and do not expect adverse comments that oppose it. We have explained the reasons for this authorization in the preamble to the immediate final rule. Unless we get written adverse comments which oppose this authorization during the comment period, the immediate final rule will become effective on the date it establishes, and we will not take further action on this proposal. If we get comments that oppose this action, we will withdraw the immediate final rule and it will not take immediate effect. We will then respond to public comments in a later final rule based on this proposal. You may not have another opportunity for comment. If you want to comment on this action, you should do so at this time.

With respect to the zinc fertilizer rule (checklist 200), we think that there may be adverse comments that oppose the Federal authorization of the State for this rule. Thus, we are not including the authorization of the zinc fertilizer rule within the immediate final rule. Rather, we are proposing to authorize Rhode Island for the zinc fertilizer rule in this proposed rule. Any approval of Rhode Island to implement the zinc fertilizer rule will occur only through a later separate final rule, which will be issued only after considering any public comments. Anyone wishing to comment on our proposal to authorize Rhode Island for the zinc fertilizer rule must also do so at this time.

We are proposing to authorize Rhode Island for the zinc fertilizer rule because, through Rules 2.2 C and 2.2 H, Rhode Island has incorporated by reference the Federal zinc fertilizer rule exactly. When a State incorporates by reference Federal requirements exactly, the State is being equivalent to and consistent with the Federal rule. Any commenter opposed to EPA's adoption of the zinc fertilizer rule should have addressed his or her comments to the EPA prior to the Federal adoption of the rule. Any commenter opposed to Rhode Island's adoption of the rule should have addressed his or her comment to Rhode Island before the State adopted the rule. While Rhode Island has the right to be more stringent and not adopt the rule, Rhode Island also has the right not to be more stringent and to adopt the Rule. Commenters wishing a State to be more stringent should make sure to submit their comments to the State, rather than waiting to ask EPA not to authorize the State for the rule.

Dated: July 7, 2010.
H. Curtis Spalding,
Regional Administrator, EPA New England.

[FR Doc. 2010-18234 Filed 7-23-10; 8:45 am]

BILLING CODE 6560-50-P